DEPARTMENT OF LABOR

Employment and Training Administration

[TA-W-58,816]

Outokumpu Advanced Superconductors, Waterbury, CT

Notice of Termination of Investigation

Pursuant to section 221 of the Trade Act of 1974, as amended, an investigation was initiated on February 9, 2006 in response to a worker petition filed by a company official on behalf of workers at Outokumpu Advanced Superconductors, Waterbury, Connecticut.

The petitioner has requested that the petition be withdrawn. Consequently, the investigation has been terminated.

Signed at Washington, DC this 17th day of February, 2006.
Elliott S. Kushner,
Certifying Officer, Division of Trade Adjustment Assistance.

[FR Doc. E6-2968 Filed 3-1-06; 8:45 am]

BILLING CODE 4510-30-P